DEPARTMENT OF EDUCATION

Submission for OMB Review; Comment Request

AGENCY: Department of Education.

ACTION: Correction notice.

SUMMARY: On March 23, 2004, the Department of Education published a 30-day public comment period notice in the Federal Register (Page 13510, Column 1) for the information collection, “eZ-Audit: Electronic Submission of Financial Statements and Compliance Audits”. The following is a corrected notice:

Federal Student Aid

Type of Review: New.

Title: eZ-Audit Electronic Submission of Financial Statements and Compliance Audits.

Frequency: Annually, and as otherwise required under the Title IV, Higher Education Act (HEA) program regulations.

Affected Public: Not-for-profit, proprietary, and public postsecondary institutions.

Reporting and Recordkeeping Hour Burden:

Responses: 5,900.

Burden Hours: 4,251.

Abstract: eZ-Audit is a web-based process designed to facilitate the submission of compliance and financial statement audits, expedite the review of those audits by the Department, and provide more timely and useful information to institutions regarding the Department's review. EZ-Audit establishes a uniform process under which all institutions submit directly to the Department any audit required under the Title IV, HEA program regulations.

Requests for copies of the proposed information collection request may be accessed from http://dedicsweb.ed.gov, by selecting the “Browse Pending Collections” link and by clicking on link number 2217. When you access the information collection, click on “Download Attachments” to view. You may also view the updated user guides and data input screens for non-profit and public institutions on the Department's Web site at: http://ifap.ed.gov/eannouncements/attachments/031204NotforProfitGuide.pdf and http://ifap.ed.gov/eannouncements/attachments/031204PublicSchoolGuide.pdf.

Written requests for information should be addressed to Vivian Reese, Department of Education, 400 Maryland Avenue, SW., Room 4050, Regional Office Building 3, Washington, DC 20202-4651 or to the e-mail address Vivian.Reese@ed.gov. Requests may also be electronically mailed to the Internet address OCIO_RIMG@ed.gov or faxed to 202-708-9346. Please specify the complete title of the information collection when making your request.

FOR FURTHER INFORMATION CONTACT: Joseph Schubart at his e-mail address: Joe.Schubart@ed.gov.

Dated: March 26 2004.
Angela C. Arrington,
Leader, Regulatory Information Management Group, Office of the Chief Information Officer.

[FR Doc. 04-7167 Filed 3-30-04; 8:45 am]

BILLING CODE 4000-01-P